DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's list of Specially Designated Nationals and Blocked Persons (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Associate Director for Global Targeting, tel.: 202-622-2420; Assistant Director for Sanctions Compliance & Evaluation, tel.: 202-622-2490; or Assistant Director for Licensing, tel.: 202-622-2480.

SUPPLEMENTARY INFORMATION:

Electronic Availability

The SDN List and additional information concerning OFAC sanctions programs are available on OFAC's website (www.treas.gov/ofac).

Notice of OFAC Actions

On October 8, 2020, OFAC determined that the property and interests in property subject to U.S. jurisdiction of the following persons are blocked under the relevant sanctions authorities listed below.

Entities

1. AMIN INVESTMENT BANK (a.k.a. AMINIB; a.k.a. “AMIN IB”), No. 51 Ghobadiyan Street, Valiasr Street, Tehran 1968917173, Iran; website http://www.aminib.com; Additional Sanctions Information—Subject to Secondary Sanctions [IRAN] [IRAN-EO13902].

Sanctioned pursuant to section 1(a)(i) of Executive Order 13902 of January 10, 2020, 85 FR 2003 (E.O. 13902) for operating in the financial sector of the Iranian economy.

2. BANK KESHAVARZI IRAN (a.k.a. AGRICULTURAL BANK OF IRAN; a.k.a. BANK KESHAVARZI), P.O. Box 14155-6395, 129 Patrice Lumumba St, Jalal-al-Ahmad Expressway, Tehran 14454, Iran; website www.agri-bank.com; alt. website www.bki.ir; Additional Sanctions Information—Subject to Secondary Sanctions; all offices worldwide [IRAN] [IRAN-EO13902].

Sanctioned pursuant to section 1(a)(i) of E.O. 13902 for operating in the financial sector of the Iranian economy.

3. BANK MASKAN (a.k.a. HOUSING BANK—OF IRAN), P.O. Box 11365/5699, No 247 3rd Floor Fedowsi Ave., Cross Sarhang Sakhaei St, Tehran, Iran; P.O. Box 11365-3499, Ferdowsi Ave., Cross Sarhang Sakhaie St, Tehran, Iran; website www.bank-maskan.ir; Additional Sanctions Information—Subject to Secondary Sanctions; all offices worldwide [IRAN] [IRAN-EO13902].

Sanctioned pursuant to section 1(a)(i) of E.O. 13902 for operating in the financial sector of the Iranian economy.

4. BANK REFAH KARGARAN (a.k.a. BANK REFAH; a.k.a. WORKERS' WELFARE BANK—OF IRAN), No. 40 North Shiraz Street, Mollasadra Ave., Vanak Sq., Tehran 19917, Iran; No. 40, North Shiraz St., Mollasadra Ave., Tehran, Iran; 40, Northern Shirazi St., Molla Sadra Ave., Tehran 19917, Iran; website www.bankrefah.ir; alt. website www.refah-bank.ir; Additional Sanctions Information—Subject to Secondary Sanctions; all offices worldwide [IRAN] [IRAN-EO13902].

Sanctioned pursuant to section 1(a)(i) of E.O. 13902 for operating in the financial sector of the Iranian economy.

5. BANK-;E SHAHR, Sepahod Gharani, Corner of Khosro St., No. 147, Tehran, Iran; website shahr-bank.ir; Additional Sanctions Information—Subject to Secondary Sanctions [IRAN] [IRAN-EO13902].

Sanctioned pursuant to section 1(a)(i) of E.O. 13902 for operating in the financial sector of the Iranian economy.

6. EGHTESAD NOVIN BANK (a.k.a. BANK EGHTESAD NOVIN; a.k.a. BANK-E EGHTESAD NOVIN; a.k.a. EN BANK PJSC), Vali Asr Street, Above Vanak Circle, across Niayesh, Esfandiari Blvd., No. 24, Tehran, Iran; SWIFT/BIC BEGNIRTH; website www.enbank.ir; Additional Sanctions Information—Subject to Secondary Sanctions [IRAN] [IRAN-EO13902].

Sanctioned pursuant to section 1(a)(i) of E.O. 13902 for operating in the financial sector of the Iranian economy.

7. GHARZOLHASANEH RESALAT BANK (a.k.a. BANK-E GHARZOLHASANEH RESALAT), Beside the No. 1 Baghestan Alley, Saadat Abad Ave., Kaj Sq., Tehran, Iran; Additional Sanctions Information—Subject to Secondary Sanctions; All offices worldwide [IRAN] [IRAN-EO13902].

Sanctioned pursuant to section 1(a)(i) of E.O. 13902 for operating in the financial sector of the Iranian economy.

8. HEKMAT IRANIAN BANK (a.k.a. BANK HEKMAT IRANIAN; a.k.a. BANK-E HEKMAT IRANIAN), Argentine Circle, beginning of Africa St., Corner of 37th St., (Dara Cul-de-sac), No.26, Tehran, Iran; No. 26, Afrigha Ave., Argentina Sq., Tehran, Iran; No. 26, Africa Hwy., Argantin Sq., Tehran, Iran; website www.hibank24.ir; Additional Sanctions Information—Subject to Secondary Sanctions [IRAN] [NPWMD] [IFSR] (Linked To: BANK SEPAH).

Designated pursuant to section 1(a)(iv) of Executive Order 13382 of June 28, 2005, 70 FR 38567, 3 CFR, 2006 Comp., p. 170 (E.O. 13382) for being owned or controlled by BANK SEPAH, a person whose property and interests in property are blocked pursuant to E.O. 13382.

9. IRAN ZAMIN BANK (a.k.a. BANK-E IRAN ZAMIN), Seyyed Jamal-oldin Asadabadi St., Corner of 68th St., No. 472, Tehran, Iran; website www.izbank.com; Additional Sanctions Information—Subject to Secondary Sanctions [IRAN] [IRAN-EO13902].

Sanctioned pursuant to section 1(a)(i) of E.O. 13902 for operating in the financial sector of the Iranian economy.

10. ISLAMIC REGIONAL COOPERATION BANK (a.k.a. BANK-E TAAWON MANTAGHEEY-E ESLAMI; a.k.a. REGIONAL COOPERATION OF THE ISLAMIC BANK FOR DEVELOPMENT AND INVESTMENT), Building No. 59, District 929, Street No. 17, Arsat Al-Hindia, Al Masbah, Baghdad, Iraq; Tohid Street, Before Tohid Circle, No. 33, Upper Level of Eghtesad-e Novin Bank, Tehran 1419913464, Iran; Arsat Indian, 59 District-929, Street-17, Baghdad, Iraq; Arrasat Al Hindiya, Al Masbah Street, Baghdad, Iraq; SWIFT/BIC RCDFIQBA; Additional Sanctions Information—Subject to Secondary Sanctions [IRAN] [IRAN-EO13902] (Linked To: EGHTESAD NOVIN BANK).

Sanctioned pursuant to section 1(a)(iv) of E.O. 13902 for being owned or controlled by EGHTESAD NOVIN BANK, a person whose property and interests in property are blocked pursuant to E.O. 13902.

11. KARAFARIN BANK (a.k.a. BANK-E KARAFARIN), Zafar St. No. 315, Between Vali Asr and Jordan, Tehran, Iran; SWIFT/BIC KBIDIRTH; website www.karafarinbank.com; Additional Sanctions Information—Subject to Secondary Sanctions [IRAN] [IRAN-EO13902].

Sanctioned pursuant to section 1(a)(i) of E.O. 13902 for operating in the financial sector of the Iranian economy.

12. KHAVARMIANEH BANK (a.k.a. MIDDLE EAST BANK), No. 22, Second Floor Sabounchi St., Shahid Beheshti Ave., Tehran, Iran; SWIFT/BIC KHMIIRTH; website www.middleeastbank.ir; Additional Sanctions Information—Subject to Secondary Sanctions; All offices worldwide [IRAN] [IRAN-EO13902].

Sanctioned pursuant to section 1(a)(i) of E.O. 13902 for operating in the financial sector of the Iranian economy.

13. MEHR IRAN CREDIT UNION BANK (a.k.a. BANK-E GHARZOLHASANEH MEHR IRAN; a.k.a. GHARZOLHASANEH MEHR IRAN BANK), Taleghani St., No.204, Before the intersection of Mofateh, across from the former U.S. embassy, Tehran, Iran; No. 204, Taleghani Street, Tehran, Iran; 204, Before the Mofatteh Crossroad, Taleghani Ave., Tehran, Iran; website www.qmb.ir; Additional Sanctions Information—Subject to Secondary Sanctions [IRAN] [IRAN-EO13902].

Sanctioned pursuant to section 1(a)(i) of E.O. 13902 for operating in the financial sector of the Iranian economy.

14. PASARGAD BANK (a.k.a. BANK PASARGAD; a.k.a. BANK-E PASARGAD), Valiasr St., Mirdamad St., No. 430, Tehran, Iran; No. 430, Mirdamad Ave., Tehran 19697774511, Iran; SWIFT/BIC BKBPIRTH; website www.bpi.ir; alt. website www.bankpasargad.ir; Additional Sanctions Information—Subject to Secondary Sanctions [IRAN] [IRAN-EO13902].

Sanctioned pursuant to section 1(a)(i) of E.O. 13902 for operating in the financial sector of the Iranian economy.

15. SAMAN BANK (a.k.a. BANK-E SAMAN), Vali Asr. St. No. 3, Before Vey Park intersection, corner of Tarakesh Dooz St., Tehran, Iran; 2, Tarkeshdooz Alley, before Parkway Cross, Valiasr St., Tehran, Iran; SWIFT/BIC SABCIRTH; website sb24.ir; Additional Sanctions Information—Subject to Secondary Sanctions [IRAN] [IRAN-EO13902].

Sanctioned pursuant to section 1(a)(i) of E.O. 13902 for operating in the financial sector of the Iranian economy.

16. SARMAYEH BANK (a.k.a. BANK SARMAYEH; a.k.a. BANK-E SARMAYEH), Sepahod Gharani No. 24, Corner of Arak St., Tehran, Iran; No. 34, Corner of Arak St., Gharani Ave., Tehran, Iran; 24, Arak Street, Sepahbod Gharani Avenue, Tehran 19395-6415, Iran; website www.sbank.ir; Additional Sanctions Information—Subject to Secondary Sanctions [IRAN] [IRAN-EO13902].

Sanctioned pursuant to section 1(a)(i) of E.O. 13902 for operating in the financial sector of the Iranian economy.

17. TOSEE TAAVON BANK (a.k.a. BANK-E TOSE'E TA'AVON; a.k.a. COOPERATIVE DEVELOPMENT BANK; a.k.a. TOSE'E TA'AVON BANK), Mirdamad Blvd., North East Corner of Mirdamad Bridge, No. 271, Tehran, Iran; No. 271, 4th Floor, Mirdamad Blvd., Northeast of Mirdamad Bridge, Tehran, Iran; website www.ttbank.ir; Additional Sanctions Information—Subject to Secondary Sanctions [IRAN] [IRAN-EO13902].

Sanctioned pursuant to section 1(a)(i) of E.O. 13902 for operating in the financial sector of the Iranian economy.

18. TOURISM BANK (a.k.a. BANK-E GARDESHGARI; a.k.a. GARDESHGARI BANK), Vali Asr St., above Vey Park, Shahid Fiazi St., No. 51, first floor, Tehran, Iran; No. 51, Shahid Fayazi St., ValiAsr Ave., Tehran, Iran; website www.tourismbank.ir; Additional Sanctions Information—Subject to Secondary Sanctions [IRAN] [IRAN-EO13902].

Sanctioned pursuant to section 1(a)(i) of E.O. 13902 for operating in the financial sector of the Iranian economy.

Dated: October 8, 2020.
Andrea M. Gacki,
Director, Office of Foreign Assets Control.

[FR Doc. 2020-22723 Filed 10-13-20; 8:45 am]

BILLING CODE 4810-AL-P